DEPARTMENT OF AGRICULTURE

Forest Service

Coconino Resource Advisory Committee

AGENCY: Forest Service, USDA.

ACTION: Notice of meeting.

SUMMARY: The Coconino Resource Advisory Committee will meet in Sedona, Arizona. The purpose of the meeting is for the committee members to meet one another for the first time, discuss committee protocols, and duties associated with being a committee member according to Public Law 110-343 (the Secure Rural Schools and Community Self-Determination Act).

DATES: The meeting will be held June 29, 2010 from 1 p.m. to 5 p.m.

ADDRESSES: The meeting will be held in the conference room of the Red Rock Ranger District Administration Office, 8375 State Route 179, Sedona, Arizona 86341. Send written comments to Brady Smith, RAC Coordinator, Coconino Resource Advisory Committee, c/o Forest Service, USDA, 1824 S. Thompson St., Flagstaff, Arizona 86001 or electronically to bradysmith@fs.fed.us.

FOR FURTHER INFORMATION CONTACT: Brady Smith, Coconino National Forest, (928) 527-3490.

SUPPLEMENTARY INFORMATION: Agenda for this meeting include discussion about (1) Orientation to the reauthorized legislation; (2) Purpose of the Secure Rural Schools Act; (3) Roles and responsibilities of the Coconino RAC; (3) Election of Committee Chairperson; (4) Meeting structure, processes and agendas; (5) Budget; and (6) Project solicitation. The meeting is open to the public.

Dated: June 3, 2010.
Paul Flanagan,
Acting Forest Supervisor, Coconino National Forest.

[FR Doc. 2010-13984 Filed 6-10-10; 8:45 am]

BILLING CODE 3410-11-M